NUCLEAR REGULATORY COMMISSION

[Docket No. 72-2]

Notice of Issuance of Amendment to Materials License SNM-2501 Virginia Electric and Power Company Surry Independent Spent Fuel Storage Installation

The U.S. Nuclear Regulatory Commission (the Commission) has issued Amendment 11 to Materials License SNM-2501 held by Virginia Electric and Power Company (Virginia Power) for the receipt, possession, transfer, and storage of spent fuel at the Surry Independent Spent Fuel Storage Installation (ISFSI), located in Surry County, Virginia. The amendment is effective the date of issuance.

By application dated April 5, 1999, as supplemented on February 29, 2000, VA Power requested to amend its ISFSI license to permit the continued storage of burnable poison rod assemblies and/or thimble plug devices within the already loaded GNSI CASTOR V/21, Westinghouse MC-10, and NAC-I28 casks used at Surry. This amendment complies with the standards and requirements of the Atomic Energy Act of 1954, as amended (the Act), and the Commission's rules and regulations. The Commission has made appropriate findings as required by the Act and the Commission's rules and regulations in 10 CFR Chapter I, which are set forth in the license amendment.

In accordance with 10 CFR 72.46(b)(2), a determination has been made that the amendment does not present a genuine issue as to whether public health and safety will be significantly affected. Therefore, the publication of a notice of proposed action and an opportunity for hearing or a notice of hearing is not warranted. Notice is hereby given of the right of interested persons to request a hearing on whether the action should be rescinded or modified.

Also in connection with this action, the Commission prepared an Environmental Assessment (EA) and Finding of no Significant Impact (FONSI). The EA and FONSI were published in the Federal Register on July 3, 2000 (65 FR 41108).

In accordance with 10 CFR 2.790 of the NRC's “Rules of Practice,” a copy of this letter and its enclosure will be available electronically for public inspection in the NRC Public Document Room or from the Publicly Available Records (PARS) component of NRC's document system (ADAMS). ADAMS is accessible from the NRC Web site at http://www.nrc.gov/NRC/ADAMS/index.html (the Public Electronic Reading Room).

Dated at Rockville, Maryland, this 6th day of July 2000.
For The Nuclear Regulatory Commission.
E. William Brach,
Director, Spent Fuel Project Office, Office of Nuclear Material Safety and Safeguards.

[FR Doc. 00-17884 Filed 7-13-00; 8:45 am]

BILLING CODE 7590-01-P